DEPARTMENT OF THE INTERIOR

Bureau of Land Management

[LLIDT000000.L11200000.DD0000.241A.00]

Notice of Public Meetings, Twin Falls District Resource Advisory Council, Idaho

AGENCY: Bureau of Land Management, Interior.

ACTION: Notice of public meetings.

SUMMARY: In accordance with the Federal Land Policy and Management Act (FLPMA), the Federal Advisory Committee Act of 1972 (FACA), and the Federal Lands Recreation Enhancement Act of 2004 (FLREA), the U.S. Department of the Interior, Bureau of Land Management (BLM) Twin Falls District Resource Advisory Council (RAC) will meet as indicated below.

DATES: June 21-22, 2011. On June 21, 2011, the Twin Falls District RAC members will meet at the Idaho Commerce and Labor Building located at 420 Falls Avenue, Twin Falls, Idaho. The meeting will begin at 8:15 a.m. and end no later than 10:30 a.m. The public comment period for the RAC meeting will take place 8:30 a.m. to 9 a.m. Following this meeting, the RAC will tour the area for the proposed China Mountain Wind Project. On June 22, 2011, RAC members will meet at the BLM Guard Station at 2295 E. 1500 N., Rogerson, Idaho at 10:30 a.m. to discuss their recommendations for the proposed China Mountain Wind Project. This meeting will end no later than 4:30 p.m.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the Bureau of Land Management, on a variety of planning and management issues associated with public land management in Idaho. During the June 21st and 22nd meeting and tour, there will be information shared about the proposed Ketchum Land Exchange as well as the China Mountain Wind Project Draft Environmental Impact Statement.

More information is available at http://www.blm.gov/id/st/en/res/resource_advisory.3.html. RAC meetings are open to the public. For further information about the meeting and tour, please contact Heather Tiel-Nelson, Public Affairs Specialist for the Twin Falls District, BLM at (208) 736-2352.

Dated: May 17, 2011.
Jenifer L. Arnold,
Associate District Manager.

[FR Doc. 2011-12975 Filed 5-24-11; 8:45 am]

BILLING CODE 4310-GG-P